DEPARTMENT OF HOUSING AND URBAN DEVELOPMENT

[Docket No. FR-5376-N-108]

Notice of Submission of Proposed Information Collection to OMB; Emergency Comment Request; Application for HUD/FHA Insured Mortgage “HOPE for Homeowners”; Notice of Proposed Information Collection for Public Comment

AGENCY: Office of the Chief Information Officer, HUD.

ACTION: Notice of proposed information collection.

SUMMARY: The proposed information collection requirement described below has been submitted to the Office of Management and Budget (OMB) for emergency review and approval, as required by the Paperwork Reduction Act. The Department is soliciting public comments on the subject proposal.

The HOPE for Homeowners Act of 2008, located in Title IV of Division A of the Housing and Economic Recovery Act of 2008 (HERA) (Pub. L. 110-289, 122 Stat. 2654, approved July 30, 2008), amended Title II of the National Housing Act to add a new section 257. New section 257 (12 U.S.C. 1701z-22) established within the Federal Housing Administration (FHA), HOPE for Homeowners, a temporary FHA program that offers homeowners and existing mortgage loan holders (or servicers acting on their behalf) insurance on the refinancing of loans for distressed mortgagors. Regulations published in 24 CFR 4001.01 through 24 CFR 4001.408 detail the requirements pertinent to HUD's single family mortgage insurance programs, i.e., the eligibility requirements and underwriting procedures, which are determined by the documents included in this clearance package.

“Under the Program, new mortgages are offered by FHA-approved mortgagees to mortgagors who are at risk of losing their homes to foreclosure. The new FHA-insured mortgages refinance the borrower's existing mortgage at a significant write-down. Eligible borrowers must be unable to afford their existing mortgage payments, must occupy the residence that is the security for the refinanced mortgage as their primary residence, and may not have any present ownership interest in another residence. Investors and investor properties are not eligible for the FHA-insured refinanced mortgages. Under the Program, participating mortgagors share their new equity and future appreciation with FHA. Additionally, participation in this Program is voluntary. No mortgagees, servicers, or investors are compelled to participate.

DATES: Comments Due Date: November 30, 2010.

ADDRESSES: Interested persons are invited to submit comments regarding this proposal. Comments must be received within seven (14) days from the date of this Notice. Comments should refer to the proposal by name/or OMB approval number) and should be sent to: Ross A. Rutledge, HUD Desk Officer, Office of Management and Budget, New Executive Office Building, Washington, DC 20503; e-mail: Ross_A._Rutledge@omb.eop.gov; fax: 202-395-6974.

FOR FURTHER INFORMATION CONTACT: Karin Hill, Director, Office of Single Family Program Development, Department of Housing and Urban Development, 451 7th Street, SW., Washington, DC 20410, telephone (202) 708-2121 (this is not a toll free number) for copies of the proposed forms and other available information.

SUPPLEMENTARY INFORMATION: This Notice informs the public that the U.S. Department of Housing and Urban Development (HUD) has submitted to OMB, for emergency processing, an information collection package with respect to this information is collected on new mortgages offered by FHA approved mortgagees to mortgagors who are at risk of losing their homes to foreclosure through the HOPE for Homeowners Program, and to those who owe more than the value of their homes through the FHA Refinance of Borrowers in Negative Equity Positions. The new FHA insured mortgages refinance the borrowers existing mortgage at a significant writedown. Under the HOPE for Homeowners program the mortgagors share the new equity with FHA.

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Application for HUD/FHA Insured Mortgage “HOPE for Homeowners”

Description of Information Collection: This information is collected on new mortgages offered by FHA approved mortgagees to mortgagors who are at risk of losing their homes to foreclosure through the HOPE for Homeowners Program, and to those who owe more than the value of their homes through the FHA Refinance of Borrowers in Negative Equity Positions. The new FHA insured mortgages refinance the borrowers existing mortgage at a significant writedown. Under the HOPE for Homeowners program the mortgagors share the new equity with FHA.

OMB Control Number: 2502-0579.

Agency Form Numbers: HUD92900-H4H, HUD92915-H4H, HUD92916-H4H and HUD92917-H4H, and HUD-92918.

Members of Affected Public: Private sector, Small businesses and other for profits.

Reporting Burden: The number of burden hours is 146,096. The number of respondents is 11,000, the number of responses is 882,242, the frequency of response is once per loan, and the burden hour per response is 4.05.

Authority: The Paperwork Reduction Act of 1995, 44 U.S.C. Chapter 35, as amended.

Dated: November 9, 2010.
Colette Pollard,
Departmental Reports Management Officer, Office of the Chief Information Officer.

[FR Doc. 2010-28716 Filed 11-15-10; 8:45 am]

BILLING CODE 4210-67-P